FEDERAL COMMUNICATIONS COMMISSION

Notice of Public Information Collection(s) Being Submitted for Review and Approval to the Office of Management and Budget (OMB), Comments Requested

December 15, 2010.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before January 26, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov). Include in the e-mail the OMB control number of the collection as shown in the SUPPLEMENTARY INFORMATION section below, or if there is no OMB control number, include the Title as shown in the Supplementary Information section. If you are unable to submit your comments by e-mail, contact he person listed below to make alternate arrangements.

FOR FURTHER INFORMATION CONTACT: For additional information, contact Judith B. Herman at 202-418-0214 or via the Internet at Judith-b.herman@fcc.gov.

SUPPLEMENTARY INFORMATION: OMB Control Number: 3060-1000.

Title: Section 87.147, Authorization for Equipment.

Form No.: N/A.

Type of Review: Extension of a currently approved collection.

Respondents: Business or other for-profit.

Number of Respondents: 25 respondents; 25 responses.

Estimated Time per Response: 1 hour.

Frequency of Response: On occasion and one time reporting requirements and third party disclosure requirement.

Obligation to Respond: Required to obtain or retain benefits. Statutory authority for this information collection is contained in 47 U.S.C. sections 154, 303, and 307(e).

Total Annual Burden: 25 hours.

Total Annual Cost: N/A.

Privacy Act Impact Assessment: N/A.

Nature and Extent of Confidentiality: There is no need for confidentiality.

Needs and Uses: The Commission will submit this expiring information collection (IC) to the OMB during this comment period. The Commission is reporting no change in its burden estimates. The Commission is seeking OMB approval for an extension (there are no changes to the reporting and/or third party disclosure requirements).

Section 87.147 is needed to require applicants for aviation equipment certification to submit a Federal Aviation Administration (FAA) determination of the equipment's compatibility with the National Airspace System (NAS). This will ensure that radio equipment operating in certain frequencies is compatible with the NAS, which shares system components with the military. The notification must describe the equipment, give the manufacturer's identification, antenna characteristics, rated output power, emission type and characteristics, the frequency or frequencies of operation, and essential receiver characteristics if protection is required.

This information collected is used by FCC engineers to determine the interference potential of the proposed operation.

OMB Control Number: 3060-0484.

Title: Section 4.1 and 4.2, and Part 4 of the Commission's Rules Concerning Disruptions to the Communications (NORS).

Form No.: N/A.

Type of Review: Extension of a currently approved collection.

Respondents: Business or other for-profit, not-for-profit institutions, and state, local or tribal governments.

Number of Respondents: 71 respondents; 139 responses.

Estimated Time per Response: 2 hours.

Frequency of Response: On occasion reporting requirement, recordkeeping requirement and third party disclosure requirement.

Obligation to Respond: Required to obtain or retain benefits. Statutory authority for this information collection is contained in 47 U.S.C. sections 151, 154, 218, 219, 230, 256, 301, 302, 303, and 403, and 621.

Total Annual Burden: 19,738 hours.

Total Annual Cost: N/A.

Privacy Act Impact Assessment: N/A.

Nature and Extent of Confidentiality: In accordance with 47 CFR section 4.2, of the Commission's rules, reports under part 4 are presumed confidential.

Needs and Uses: The Commission will submit this expiring information collection (IC) to the OMB during this comment period. The Commission is requesting OMB approval for an extension (no change in the reporting, recordkeeping and/or third party disclosure requirements). The Commission is reporting a 10,100 total annual burden hour increase. This increased adjustment is due to a recalculation of the number of responses and therefore the total annual burden hours have increased since the last time this collection was submitted to the OMB. The information collection is used in connection with the reporting of significant outages of voice and/or paging communications provided by wireline, wireless, cable circuit-switched telephony, and satellite communications providers.

This information collection is necessary for the following reasons:

(1) Collecting information on significant outages as defined in its rules enables the Federal Communications Commission (“FCC or Commission”) to analyze significant disruptions to telecommunications networks, and thereby fulfill its statutory obligations under the Communication Act by ensuring the reliability and security of the nation's telecommunications networks for the benefit of all Americans. Furthermore, these measures are necessary to support the efforts of public safety, national defense, and homeland security entities that rely upon the integrity of our Nation's telecommunications infrastructure to accomplish their own missions. In the absence of—or less frequent—reporting of significant outages as required by the Commission's rules, valuable information regarding telecommunications failures would escape timely FCC analysis, and thus impede the ability to identify potential threats and vulnerabilities involving the Nation's telecommunications infrastructure—particularly those having an adverse impact on public safety, homeland security and national defense priorities.

(1) In addition, the information collected—particularly in cases involving major outage incidents—can be of a nature that constitutes “Critical Infrastructure Information” as defined in 6 U.S.C. section 131, which may be shared with the Department of Homeland Security (DHS) in furtherance of its missions to protect the United States from terrorist activity and to otherwise protect domestic security. Consequently, the collection and timely reporting of data relating to significant outages as required by these rules is necessary in order for the Commission and DHS to successfully accomplish these critical missions for the benefit of the American people.

(2) In addition, the mandatory reporting procedures requires three submissions to be transmitted electronically to the Commission's database by each affected provider for each reportable outage as follows:

(a) a bare-bones Notification (“Notification”) not later than 120 minutes after discovering a reportable outage;

(b) a more detailed Initial Communications Outage Report (“Initial Report”) not later than 72 hours after discovering a reportable outage; and

(c) a comprehensive Final Communications Outage Report (“Final Report”) not later than thirty (30) days after discovering a reportable outage.

As noted above, the information provided in the data collected by providers (collectively “Outage Reports”) is essential in enabling the Commission to monitor developments affecting telecommunications reliability and security; to facilitate improvements in telecommunications reliability and security; and to serve as a source of information for the public.

OMB Control Number: 3060-0971.

Title: Section 52.15, Request for “For Cause” Audits and State Commission's Access to Numbering Resource Application Information.

Form No.: N/A.

Type of Review: Extension of a currently approved collection.

Respondents: Business or other for-profit and state, local or tribal government.

Number of Respondents: 2,105 respondents; 63,005 responses.

Estimated Time per Response: .166 hours to 3 hours.

Frequency of Response: On occasion reporting requirement and third party disclosure requirement.

Obligation to Respond: Required to obtain or retain benefits. Statutory authority for this information collection is contained in 47 U.S.C. sections 153, 154, 201-205, 207-209, 218, 225-227, 251-252, 271 and 332.

Total Annual Burden: 10,473 hours.

Total Annual Cost: N/A.

Privacy Act Impact Assessment: N/A.

Nature and Extent of Confidentiality: Carrier numbering resource applications and audits of carrier compliance will be treated as confidential and will be exempt from public disclosure under 5 U.S.C. 552(b)(4).

Needs and Uses: The Commission will submit this expiring information collection (IC) to the OMB during this comment period. The Commission is reporting a 42 total hourly burden reduction adjustment. The adjustment is due to a recalculation of the previous estimates submitted to OMB in 2008. The Commission is now seeking OMB approval for an extension (there are no changes to the reporting and/or third party disclosure requirements) to keep this collection from lapsing OMB approval.

There are two Paperwork Reduction Act related obligations under this OMB Control Number 3060-0971.

1. The North American Numbering Plan Administrator (NANPA), the Pooling Administrator, or a state commission may draft a request to the auditor stating the reason for the request, such as misleading or inaccurate data, and attach supporting documentation.

2. Requests for copies of carriers' applications for numbering resources may be made directly to carriers.

The information collected will be used by the FCC, state commissions, the NANPA and the Pooling Administrator to verify the validity and accuracy of such data and to assist state commissions in carrying out their numbering responsibilities, such as area code relief.

OMB Control Number: 3060-0972.

Title: Multi-Association Group (MAG) Plan Order, Parts 54 and 69 Filing Requirements for Regulation of Interstate Services of Non-Price Cap Incumbent Local Exchange Carriers (LECs) and Interexchange Carriers (IXCs).

Form Nos.: FCC Forms 507, 508 and 509.

Type of Review: Extension of a currently approved collection.

Respondents: Business or other for-profit and not-for-profit institutions.

Number of Respondents: 1,258 respondents; 10,849 responses.

Estimated Time per Response: .166 hours to 3 hours.

Frequency of Response: On occasion, annual, quarterly, one time and every three years reporting requirements and third party disclosure requirement.

Obligation to Respond: Required to obtain or retain benefits. Statutory authority for this information collection is contained in 47 U.S.C. sections 1-4, 10, 154(i), 154(j), 201-205, 254, and 403.

Total Annual Burden: 46,885 hours.

Total Annual Cost: $48,900.

Privacy Act Impact Assessment: N/A.

Nature and Extent of Confidentiality: The Commission does not require that respondents submit confidential information to the Commission. If the Commission does request applicants to submit information that the respondents believe is confidential, respondents may do so under 47 CFR 0.459 of the Commission's rules.

Needs and Uses: The Commission will submit this expiring information collection (IC) to the OMB during this comment period The Commission is now seeking OMB approval for an extension (there are no changes to the reporting and/or third party disclosure requirements) to keep this collection from lapsing OMB approval. The Commission is reporting the following changes in burden since this was last submitted to the OMB. There is a 6,434 increase in the hourly burden which is due to an increase in the number of respondents/responses and a $3,705 increase in annual costs. This increase adjustment in annual costs is due to an increase in filing fees.

The 60 day notice that was published on September 9, 2010 (75 FR 54878) cited an incorrect total annual burden estimate. It has been corrected in this 30-day notice. There are 14 Paperwork Reduction Act (PRA) related information collection requirements under this OMB Control Number 3060-0972.

Following the passage of the Telecommunications Act of 1996, the Commission adopted interstate access charge and universal service support reforms. The reforms were designed to establish a “pro-competitive, deregulatory national policy framework” for the United States telecommunications industry, and to carry out the universal service policies embodied in the 1996 Act. Specifically, the Commission aligned the interstate access rate structure more closely with the manner in which costs are incurred, and created a universal service support mechanism for rate-of-return carriers (Interstate Common Line Support (ICLS)) to replace implicit support in interstate access charges with explicit support that is portable to all eligible telecommunications carriers.

The Commission's actions were also tailored to the needs of small and mid-sized local telephone companies serving rural and high-cost areas, and help to provide certainty and stability for rate-of-return carriers, encourage investment in rural America, and provide important consumer benefits.

To administer the ICLS mechanism, the Administrator must collect certain data. Specifically, the Administrator must collect from each rate-of-return carrier projected cost and revenue data for the July 1—June 30 funding year to accurately distribute prospective ICLS to those carriers. Line count data is reported on FCC Form 507. Projected cost data, including cost and revenue data is filed on FCC Form 508. And, the actual data, including cost and revenue data is reported on FCC Form 509.

Federal Communications Commission.
Marlene H. Dortch,
Secretary.

[FR Doc. 2010-32472 Filed 12-23-10; 8:45 am]

BILLING CODE 6712-01-P